DEPARTMENT OF ENERGY

Federal Energy Regulatory Commission

Combined Notice of Filings #1

July 7, 2010.

Take notice that the Commission received the following electric rate filings:

Docket Numbers: ER04-1181-006; ER04-1182-006; ER04-1184-006; ER04-1186-007.

Applicants: KGen Hot Spring LLC, KGEN Sandersville LLC, KGen Hinds LLC, KGen Murray I and II LLC.

Description: Notice of Change in Status of KGen Hinds LLC, et al.

Filed Date: 07/06/2010.

Accession Number: 20100706-5208.

Comment Date: 5 p.m. Eastern Time on Tuesday, July 27, 2010.

Docket Numbers: ER10-1231-001.

Applicants: Detroit Edison Company.

Description: Detroit Edison Company submits revised unexecuted service agreement.

Filed Date: 07/06/2010.

Accession Number: 20100706-0216.

Comment Date: 5 p.m. Eastern Time on Tuesday, July 13, 2010.

Docket Numbers: ER10-1559-000.

Applicants: California Independent System Operator Corporation.

Description: The California Independent System Operator Corporation submits revisions to its tariff necessary to implement convergence bidding in the ISO's markets.

Filed Date: 06/25/2010.

Accession Number: 20100628-0212.

Comment Date: 5 p.m. Eastern Time on Friday, July 16, 2010.

Docket Numbers: ER10-1674-000.

Applicants: Deseret Generation & Transmission Co-operative, Inc.

Description: Deseret Generation & Transmission Co-operative, Inc. submits tariff filing per 35.37: Triennial Market Power Update to be effective 7/1/2010.

Filed Date: 07/01/2010.

Accession Number: 20100701-5072.

Comment Date: 5 p.m. Eastern Time on Monday, August 30, 2010.

Docket Numbers: ER10-1692-000.

Applicants: California Independent System Operator Corporation.

Description: California Independent System Operator Corporation submits tariff filing per 35.13(a)(2)(iii): 2010-07-02 CAISO CRR Credit Enhancement Amendment to be effective 9/1/2010.

Filed Date: 07/02/2010.

Accession Number: 20100702-5010.

Comment Date: 5 p.m. Eastern Time on Friday, July 23, 2010.

Docket Numbers: ER10-1709-000.

Applicants: Sierra Pacific Power Company.

Description: Sierra Pacific Power Company submits an executed Borderline Customer Agreement with California Pacific Electric Company, LLC dated 10/8/09.

Filed Date: 07/02/2010.

Accession Number: 20100706-0212.

Comment Date: 5 p.m. Eastern Time on Friday, July 23, 2010.

Docket Numbers: ER10-1710-000.

Applicants: Vista Energy Marketing, LP.

Description: Vista Energy Marketing submits Notice of Cancellation of its Rate Schedule FERC No. 1.

Filed Date: 07/02/2010.

Accession Number: 20100706-0210.

Comment Date: 5 p.m. Eastern Time on Friday, July 23, 2010.

Docket Numbers: ER10-1711-000.

Applicants: Duke Energy Carolinas, LLC.

Description: Duke Energy Carolinas, LLC submits Eleventh Amendment to the Revised and Restated Interconnection Agreement with North Carolina Electric Membership Corporation et al.

Filed Date: 07/02/2010.

Accession Number: 20100706-0209.

Comment Date: 5 p.m. Eastern Time on Friday, July 23, 2010.

Docket Numbers: ER10-1712-000.

Applicants: Sierra Pacific Power Company.

Description: Sierra Pacific Power Company submits an executed Interconnection Agreement with California Pacific Electric Company, LLC dated 10/8/09.

Filed Date: 07/02/2010.

Accession Number: 20100706-0211.

Comment Date: 5 p.m. Eastern Time on Friday, July 23, 2010.

Docket Numbers: ER10-1715-000.

Applicants: Wisconsin Public Service Corporation.

Description: Wisconsin Public Service Corporation submits revised page to Exhibit 2-H to its Agreement dated July 18, 2007 with the City of Marshfield.

Filed Date: 07/06/2010.

Accession Number: 20100706-0208.

Comment Date: 5 p.m. Eastern Time on Tuesday, July 27, 2010.

Docket Numbers: ER10-1716-000.

Applicants: East Coast Power & Gas, LLC.

Description: East Coast Power and Gas, LLC submits Petition for Acceptance of Initial Tariff, Waivers and Blanket Authorization.

Filed Date: 07/06/2010.

Accession Number: 20100706-0207.

Comment Date: 5 p.m. Eastern Time on Tuesday, July 27, 2010.

Docket Numbers: ER10-1717-000.

Applicants: PJM Interconnection, LLC.

Description: PJM Interconnection, LLC submits revisions to the Amended and Restated Operating Agreement of PJM's Schedule 1 and the Open Access Transmission Tariff Attachment K Appendix.

Filed Date: 07/06/2010.

Accession Number: 20100706-0213.

Comment Date: 5 p.m. Eastern Time on Tuesday, July 27, 2010.

Docket Numbers: ER10-1718-000.

Applicants: Northern States Power Company.

Description: Northern States Power Company submits an unexecuted version of a Transmission Capacity Exchange Agreement, FERC Electric Rate Schedule Original Volume 1.

Filed Date: 07/06/2010.

Accession Number: 20100706-0214.

Comment Date: 5 p.m. Eastern Time on Tuesday, July 27, 2010.

Docket Numbers: ER10-1719-000.

Applicants: Sierra Pacific Power Company.

Description: Sierra Pacific Power Company submits a Rate Schedule FERC 55, which is a consolidated version of an executed power service agreement.

Filed Date: 07/02/2010.

Accession Number: 20100706-0218.

Comment Date: 5 p.m. Eastern Time on Friday, July 23, 2010.

Docket Numbers: ER10-1720-000.

Applicants: Dry Lake Wind Power II LLC.

Description: Dry Lake Wind Power II LLC submits tariff filing per 35.12: 20100706_initial tariff to be effective 9/4/2010.

Filed Date: 07/06/2010.

Accession Number: 20100706-5093.

Comment Date: 5 p.m. Eastern Time on Tuesday, July 27, 2010.

Docket Numbers: ER10-1721-000.

Applicants: Wabash Valley Power Association, Inc.

Description: Wabash Valley Power Association, Inc. submits tariff filing per 35.12: WVPA Baseline Formulary Rate Tariff to be effective 7/6/2010.

Filed Date: 07/06/2010.

Accession Number: 20100706-5105.

Comment Date: 5 p.m. Eastern Time on Tuesday, July 27, 2010.

Docket Numbers: ER10-1722-000.

Applicants: New York Independent System Operator, Inc.

Description: New York Independent System Operator, Inc. submits tariff filing per to Order 719 Compliance Filing—Schnell (Hunton), to be effective 7/6/2010.

Filed Date: 07/07/2010.

Accession Number: 20100707-5000.

Comment Date: 5 p.m. Eastern Time on Wednesday, July 28, 2010.

Docket Numbers: ER10-1723-000.

Applicants: Wisconsin Electric Power Company.

Description: Wisconsin Electric Power Company submits tariff revisions to its Formula Rate Wholesale Sales Tariff, effective 9/1/10.

Filed Date: 07/06/2010.

Accession Number: 20100707-0201.

Comment Date: 5 p.m. Eastern Time on Tuesday, July 27, 2010.

Docket Numbers: ER10-1724-000.

Applicants: Wisconsin Electric Power Company.

Description: Wisconsin Electric Power Company submits tariff revisions to the Restated Power Service Agreement between WE and WPPI Energy, effective 9/1/10.

Filed Date: 07/06/2010.

Accession Number: 20100707-0202.

Comment Date: 5 p.m. Eastern Time on Tuesday, July 27, 2010.

Docket Numbers: ER10-1725-000.

Applicants: Hardscrabble Wind Power LLC.

Description: Hardscrabble Wind Power LLC submits tariff filing per 35.12: 20100707_initial tariff to be effective 9/5/2010.

Filed Date: 07/07/2010.

Accession Number: 20100707-5055.

Comment Date: 5 p.m. Eastern Time on Wednesday, July 28, 2010.

Docket Numbers: ER10-1726-000.

Applicants: RRI Energy Wholesale Generation, LLC.

Description: RRI Energy Wholesale Generation, LLC submits tariff filing per 35.12: Baseline Filing to be effective 8/1/2010.

Filed Date: 07/07/2010.

Accession Number: 20100707-5072.

Comment Date: 5 p.m. Eastern Time on Wednesday, July 28, 2010.

Take notice that the Commission received the following open access transmission tariff filings:

Docket Numbers: OA10-11-000.

Applicants: Avista Corporation.

Description: Avista Corporation submits revisions to its Open Access Transmission Tariff.

Filed Date: 07/06/2010.

Accession Number: 20100706-0217.

Comment Date: 5 p.m. Eastern Time on Tuesday, July 27, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-17149 Filed 7-13-10; 8:45 am]

BILLING CODE 6717-01-P